DEPARTMENT OF THE INTERIOR

National Park Service

[NPS-WASO-NAGPRA-NPS0038196; PPWOCRADN0-PCU00RP14.R50000]

Notice of Inventory Completion: Aurora History Museum and Historic Sites, Aurora, CO

AGENCY: National Park Service, Interior.

ACTION: Notice.

SUMMARY: In accordance with the Native American Graves Protection and Repatriation Act (NAGPRA), the Aurora History Museum and Historic Sites has completed an inventory of human remains and associated funerary objects and has determined that there is a cultural affiliation between the human remains and associated funerary objects and Indian Tribes or Native Hawaiian organizations in this notice.

DATES: Repatriation of the human remains and associated funerary objects in this notice may occur on or after July 31, 2024.

ADDRESSES: Elizabeth Ricci, Aurora History Museum and Historic Sites, 15051 East Alameda Parkway, Aurora, CO 80012, telephone (303) 739-6660, email ericci@auroragov.org.

SUPPLEMENTARY INFORMATION: This notice is published as part of the National Park Service's administrative responsibilities under NAGPRA. The determinations in this notice are the sole responsibility of the Aurora History Museum and Historic Sites, and additional information on the determinations in this notice, including the results of consultation, can be found in its inventory or related records. The National Park Service is not responsible for the determinations in this notice.

Abstract of Information Available

Human remains representing, at least, two individuals have been identified. The eight associated funerary objects are five charcoals, two shells, and one lithic.

In April of 1982, two neighborhood children discovered human bone eroding from the bank of West Toll Gate Creek in Arapahoe County: Aurora, Colorado. The children reported their find, and the site was excavated soon after. Site 5AH 244 is located on the first terrace above and on the cut bank of West Toll Gate Creek. The objective of the excavation was to recover human remains, reinter, and document as much information on the burial as possible. A Medicine Man, Charlie Kills Enemy of the Sioux Tribe, was in the area at the time and brought in to ensure proper care of the remains. Charlie Kills Enemy conducted a ceremony to ask the ancestors if they have permission to perform carbon dating test, they agreed. The ancestors were then asked where they would like to be reinterred. They requested to be buried on a hill. The human remains, an amazonite pendent, and an atlatl weight were reinterred in June of 1985 at Golden Gate Canyon State Park on five acers of land designated for the Tribes just northwest of Golden, Colorado prior to NAGPRA law. A ceremony took place with Elders from the Shoshone and Cheyenne Tribes. A Medicine Man was present from the Arapaho Tribe. The Elders and Medicine Man were not named. Reinternment was on a hill as requested. The exact reinternment site is unknown to the museum. We are working with Golden Gate Canyon State Park to find the location.

We recently discovered a collection of objects and items related to the burial site 5AH 244. Within the collection are soil samples that were taken from the burial pits, a chest cavity, and surrounding earth. The soil samples contain pieces of bone not consistent with the animal bones that have been found within the collection. These bones are seen as remnants of the two individuals previously found. Items that appear to be associated funerary objects are five charcoals, two shells, and one lithic. There are animal bones, lithics, flakes, soils, and a petrified wood knife that are not associated with the burial. It was requested by the Arapaho and Cheyenne council that the entire collection including non-associated items be reinterred in the exact spot of the original reinternment or as close as possible.

Cultural Affiliation

Based on the information available and the results of consultation, cultural affiliation is reasonably identified by the geographical location or acquisition history of the human remains and associated funerary objects described in this notice.

Determinations

The Aurora History Museum and Historic Sites has determined that:

• The human remains described in this notice represent the physical remains of two individuals of Native American ancestry.

• The eight objects described in this notice are reasonably believed to have been placed intentionally with or near individual human remains at the time of death or later as part of the death rite or ceremony.

• There is a connection between the human remains and associated funerary objects described in this notice and the Cheyenne and Arapaho Tribes, Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 31, 2024. If competing requests for repatriation are received, the Aurora History Museum and Historic Sites must determine the most appropriate requestor prior to repatriation. Requests for joint repatriation of the human remains and associated funerary objects are considered a single request and not competing requests. The Aurora History Museum and Historic Sites is responsible for sending a copy of this notice to the Indian Tribes and Native Hawaiian organizations identified in this notice.

Authority: Native American Graves Protection and Repatriation Act, 25 U.S.C. 3003, and the implementing regulations, 43 CFR 10.10.

Dated: June 24, 2024.
Melanie O'Brien,
Manager, National NAGPRA Program.

[FR Doc. 2024-14473 Filed 6-28-24; 8:45 am]

BILLING CODE 4312-52-P